FEDERAL COMMUNICATIONS COMMISSION

47 CFR Part 73

[DA 03-1709; MB Docket No.03-41; RM-10642]

Radio Broadcasting Services; Lincoln City and Monmouth, OR

AGENCY: Federal Communications Commission.

ACTION: Final rule.

SUMMARY: This document substitutes Channel 236C3 for Channel 236C2 at Lincoln City, Oregon, reallots Channel 236C3 to Monmouth, Oregon, and modifies the license for Station KSND to specify operation Channel 236C3 at Monmouth in response to a petition filed by Radio Beam, LLC. See 68 FR 10681, March 6, 2003. The coordinates for Channel 236C3 at Monmouth are 44-50-43 and 123-30-07. With this action, this proceeding is terminated.

DATES: Effective July 7, 2003.

FOR FURTHER INFORMATION CONTACT: Kathleen Scheuerle, Media Bureau, (202) 418-2180.

SUPPLEMENTARY INFORMATION: This is a summary of the Commission's Report and Order, MB Docket No. 03-41, adopted May 16, 2003, and released May 20, 2003. The full text of this Commission decision is available for inspection and copying during regular business hours in the FCC's Reference Information Center, Portals II, 445 12th Street, SW., Room CY-A257, Washington, DC, 20554. The complete text of this decision may also be purchased from the Commission's duplicating contractor, Qualex International, Portals II, 445 12th Street, SW., Room CY-B402, Washington, DC, 20554, telephone 202-863-2893, facsimile 202-863-2898, or via e-mail qualexint@aol.com.

List of Subjects in 47 CFR Part 73

Radio, Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Oregon, is amended by removing Channel 236C2 at Lincoln City by adding Monmouth, Channel 236C3.

Federal Communications Commission.
John A. Karousos,
Assistant Chief, Audio Division, Media Bureau.

[FR Doc. 03-14091 Filed 6-4-03; 8:45 am]

BILLING CODE 6712-01-P